DEPARTMENT OF DEFENSE

Department of the Army, Corps of Engineers

Notice of Availability of the Draft Environmental Impact Statement for the Va Shyl'ay Akimel Ecosystem Restoration Feasibility Study, Maricopa County, AZ

AGENCY: Department of the Army, U.S. Army Corps of Engineers, DoD.

ACTION: Notice; time correction.

SUMMARY: The start time for the final pubic hearing scheduled for Thursday, June 3, 2004 starting at 6:30 p.m. published in the Federal Register on Wednesday, April 28, 2004 (69 FR 23175) has been rescheduled. The final public hearing will now begin at 6 p.m. on Thursday, June 3, 2004. The meeting location will remain the same (Lehi Community Center, 1231 East Oak Street, Mesa, AZ).

FOR FURTHER INFORMATION CONTACT: Ms. Sarah Laughlin, Environmental Coordinator, at (540) 231-8303 or Ms. Kayla Eckert, Study Manager, at (602) 640-2003 ext. 253.

SUPPLEMENTARY INFORMATION: None.

Brenda S. Bowen,
Alternate Army Federal Register Liaison Officer.

[FR Doc. 04-12251 Filed 5-28-04; 8:45 am]

BILLING CODE 3710-KF-M